DEPARTMENT OF COMMERCE

Economics and Statistics Administration

Measuring Innovation in the 21st Century Economy Advisory Committee; Notice of Public Meeting

AGENCY: Economics and Statistics Administration, Commerce.

ACTION: Notice of public meeting.

SUMMARY: The Department of Commerce (DOC) is announcing the first meeting of the Measuring Innovation in the 21st Century Economy Advisory Committee. The meeting is open to the public. Seating at the meeting will be on a first-come, first-served basis. Interested parties may register on the Advisory Committee Web site: http://www.innovationmetrics.gov.

DATES: The meeting will be held on Thursday, February 22, 2007, from approximately 2 p.m. to 6 p.m. On-site sign-in begins at noon. Pre-registration is encouraged but not required.

ADDRESSES: The meeting will be held in the Vista Ballroom at The Wyndham Washington Hotel, 1400 M Street, NW., Washington DC. The Wyndham telephone number is 202-429-1700.

FOR FURTHER INFORMATION CONTACT: Elizabeth E.R. Anderson, Deputy Under Secretary for Economic Affairs, U.S. Department of Commerce, 1401 Constitution Avenue, NW., Washington, DC 20230: facsimile: 202-482-0432 or Jacque Mason, ESA Communications and Advisory Committee Liaison, Room 4855, telephone: 202-482-5641, or online: http://www.innovationmetrics.gov.

SUPPLEMENTARY INFORMATION: In accordance with the provisions of the Federal Advisory Committee Act, 5 U.S.C. App. 2, and the General Services Administration rule on Federal Advisory Committee Management, 41 CFR part 101-6, the Secretary of Commerce determined that the establishment of the Measuring Innovation in the 21st Century Economy Advisory Committee (the “Committee”) was in the public interest in connection with the performance of duties imposed on the Department by law.

The Committee will advise the Secretary on new or improved measures of innovation in the economy that will help explain how innovation occurs in different sectors of the economy, how it is diffused across the economy, and how it impacts economic growth and productivity.

The Committee consists of fifteen members appointed by the Secretary of Commerce and is composed of individuals from business and academia. The Committee will function solely as an advisory body, in compliance with the provisions of the Federal Advisory Committee Act. The Charter was filed under the Federal Advisory Committee Act.

The meeting is physically accessible to people with disabilities. Individuals requiring special accommodations at this meeting including sign language interpretation or other auxiliary aids should contact Jacque Mason at the address listed under FOR FURTHER INFORMATION CONTACT at least 5 business days prior to the meeting so that appropriate arrangements can be made. The meeting will be videotaped and made public on the Committee Web site within one month after the meeting date.

Elizabeth “E.R.” Anderson,
Deputy Under Secretary for Economic Affairs.

[FR Doc. 07-427 Filed 1-30-07; 8:45 am]

BILLING CODE 3510-BS-P